DEPARTMENT OF TRANSPORTATION

Federal Aviation Administration

Notice of the Availability of the Record of Decision (ROD) for the Final Environmental Impact Statement (FEIS) that Evaluated the Proposed Relocation of the Panama City-Bay County International Airport, Panama City, Florida, Published in May 2006

AGENCY: Federal Aviation Administration (FAA), DOT.

ACTION: Notice of Availability for Record of Decision.

SUMMARY: The FAA is issuing this notice to advise the public that it has issued a ROD for the FEIS that evaluated a proposal to relocate the existing Panama City-Bay County International Airport (PFN) to a new site in western Bay County, Florida. The ROD provides final agency determination and approvals for those federal actions by the FAA necessary for the proposed relocation of PFN.

SUPPLEMENTARY INFORMATION: The FAA has completed and is publishing its Record of Decision for the proposed relocation of the Panama City-Bay County International Airport to a new site in western Bay County, Florida. The Environmental Protection Agency published FAA's notice of availability of the FEIS for this airport relocation project in the Federal Register on May 19, 2006. The FEIS was prepared in compliance with the National Environmental Policy Act of 1969 (NEPA) [42 U.S.C. Section 4321, et seq.], the implementing regulations of the Council on Environmental Quality (CEQ) [40 CFR Parts 1500-1508] and FAA directives [Order 1050.1E and Order 5050.4A], and assessed the potential impact of six development alternatives, as well as the No Action Alternative where the airport would be neither improved at the existing site nor relocated to a new site in western Bay County. The FAA accepted comments on the Final EIS and these comments, along with the FAA's responses, are included in Appendix B of the ROD.

The FAA has identified the West Bay Site 8,400 foot Alternative, the Airport Sponsor's Proposed Project (Proposed Project), as its preferred alternative in the FEIS and selected alternative in the ROD. The Proposed Project consists of relocation of the existing PFN to a new site in Bay County, Florida, called the West Bay Site. The Proposed Project is identified as Phase 1 (initial development area), which encompasses approximately 1,378 acres of the 4,000-acre West Bay Site. The relocation of the airport includes, but is not limited to, construction of a primary air carrier runway 8,400 feet in length, a crosswind runway 5,000 feet in length, airside and landside facilities to support the runway operations (such as taxiways, aprons, a commercial passenger terminal, access roads and parking, fuel storage facilities, an Air Traffic Control Tower, etc.), general aviation and fixed base operator facilities, and navigation aids. The FAA is selecting and granting approval of a layout plan for the FAA's preferred alternative, the West Bay Site 8,400 foot Alternative, with conditions as noted in Section 12 of the ROD. Copies of the ROD and FEIS are available for public review at the following locations during normal business hours:

Panama City-Bay County International Administration Office, 3173 Airport Road, Panama City, Florida 32405, Telephone (850) 783-6751, Bay County Public Library, 25 West Government Street, Panama City, Florida 32401, Telephone (850) 872-7500; Federal Aviation Administration, Orlando Airports District Office, 5950 Hazeltine National Drive, Suite 400, Orlando, Florida 32822, Telephone (407) 812-6331; Federal Aviation Administration Southern Region Office, 1701 Columbia Avenue, College Park, GA, 30337, Telephone (404) 305-6700.

The FEIS is available for review at http://www.pcairport.com. The ROD will also be available for review at this Web site by late September 2006.

FOR FURTHER INFORMATION CONTACT: Virginia Lane, Environmental Specialist, Federal Aviation Administration, Orlando Airports District Office, 5950 Hazeltine National Drive, Suite 400, Orlando, Florida 32822, Telephone (407) 812-6331 Extension 129.

Issued in Orlando, Florida on September 15, 2006.
Matthew J. Thys,
Acting Manager, Orlando Airports District Office.

[FR Doc. 06-8128 Filed 9-22-06; 8:45 am]

BILLING CODE 4910-13-M